DEPARTMENT OF COMMERCE

International Trade Administration

(C-469-804)

Cut-to-Length Carbon Steel Plate from Spain: Final Results of Expedited Five-year (“Sunset”) Review of the Countervailing Duty Order

AGENCY: Import Administration, International Trade Administration, Department of Commerce.

SUMMARY: On November 1, 2005, the Department of Commerce (“the Department”) published in the Federal Register the notice of initiation of the second five-year sunset review of the countervailing duty order on certain cut-to-length carbon steel plate (“CTL Plate”) from Spain, pursuant to section 751(c) of the Tariff Act of 1930, as amended (“the Act”). See Initiation of Five-year (“Sunset”) Reviews, 70 FR 65884 (November 1, 2005) (“Second Sunset Review”). On the basis of a notice of intent to participate and an adequate substantive response filed on behalf of domestic interested parties, and an inadequate response from respondent interested parties (in this case, no response), the Department has conducted an expedited sunset review of this order pursuant to section 751(c)(3)(B) of the Act and section 351.218(e)(1)(ii)(B) of the Department's regulations. As a result of this sunset review, the Department finds that revocation of the countervailing duty order is likely to lead to continuation or recurrence of a countervailable subsidy at the level indicated in the “Final Results of Review” section of this notice.

EFFECTIVE DATE: June 6, 2006.

FOR FURTHER INFORMATION CONTACT: Myrna Lobo or Sean Carey, AD/CVD Operations, Office 6, Import Administration, International Trade Administration, U.S. Department of Commerce, 14th Street and Constitution Ave., N.W., Washington, D.C. 20230; telephone: (202) 482-2371 or (202) 482-3964, respectively.

SUPPLEMENTARY INFORMATION:

Background

The countervailing duty order which covers CTL Plate from Spain, was published in the Federal Register on August 17, 1993. See Countervailing Duty Order: Certain Steel Products from Spain, 58 FR 43761 (August 17, 1993). On November 1, 2005, the Department initiated the second sunset review of the countervailing duty order on CTL Plate from Spain, pursuant to section 751(c) of the Act. See Second Sunset Review. The Department received notices of intent to participate from IPSCO, Inc., Mittal Steel USA ISG, Inc., Nucor Corporation, Oregon Steel Mills, Inc., United Steel, Paper and Forestry, Rubber, Manufacturing, Energy, Allied Industrial and Service Workers International Union, AFL-CIO-CLC (“USW”) (collectively “domestic interested parties”), within the deadline specified in 19 CFR 351.218(d)(1)(i).¹ Domestic interested parties claimed interested party status under sections 771(9)(C) and (D) of the Act, as U.S. producers and a certified union engaged in the manufacture, production, or wholesale of CTL Plate in the United States.

¹ Domestic interested parties note that Mittal, IPSCO, and Oregon Steel Mills, were the petitioners or successors to petitioners in the original investigation and that they have participated in subsequent reviews.

On November 30, 2005, the Department received a substantive response from domestic interested parties within the deadline specified in section 19 CFR 351.218(d)(3)(i).² The Department did not receive any responses from any respondent interested party to this proceeding. In accordance with 19 CFR 351.218(e)(1)(ii)(C)(2), the Department notified the International Trade Commission (“ITC”) that respondent interested parties provided inadequate response to the Notice of Initiation of Five-year (“Sunset”) Review.³ The Department, therefore, is conducting an expedited sunset review of the countervailing duty order, pursuant to 19 CFR 351.218(e)(1)(ii)(B) and 351.218(e)(1)(ii)(C)(2).

² On December 1, 2005, the Department received a letter from domestic interested parties amending their November 30, 2005 substantive response to the Department's initiation of the sunset review on CTL Plate from Spain, to include United Steel, Paper and Forestry, Rubber, Manufacturing, Energy, Allied Industrial and Service Workers International Union, AFL-CIO-CLC (“USW”).

³ See December 21, 2005 letter to ITC, Robert Carpenter, Director of Investigations, from Barbara E. Tillman, Director, Office 6, AD/CVD Operations, Import Administration.

In accordance with section 751(c)(5)(C)(v) of the Act, the Department may treat a review as extraordinarily complicated if it is a review of a transition order (i.e, an order in effect on January 1, 1995, the effective date of the Uruguay Round Agreements Act), as is the case in this proceeding. As such, the Department determined that the sunset review of the countervailing duty order on CTL Plate from Spain is extraordinarily complicated and required additional time for the completion of the final results of review. In accordance with section 751(c)(5)(B) of the Act, the Department extended the time limit for completion of the final results of CTL Plate from Spain until no later than May 30, 2006. See Cut-to-Length Carbon Steel Plate from Brazil and Spain; Extension of Time Limits for Final Results of Expedited Five-year (“Sunset”) Reviews of Countervailing Duty Orders; 71 FR 7018 (February 10, 2006).

Since the publication of its results in the first sunset review, see Cut-to-Length Carbon Steel Plate from Spain; Final Results of Expedited Sunset Review of Countervailing Duty Order, 65 FR 18307 (April 7, 2000) (“First Sunset Review”), the Department has conducted two proceedings pursuant to Section 129 of the Uruguay Round Agreements Act (URAA). See Final Results of Expedited Sunset Review of Cut-to-Length Carbon Steel Plate from Spain (“First Section 129 Review”), from Joseph A. Spetrini, Deputy Assistant Secretary for Import Administration, to James J. Jochum, Assistant Secretary for Import Administration, dated October 24, 2003; and Second Section 129 Determination on the Sunset Review of the Countervailing Duty Order on Certain Cut-to-Length Carbon Steel Plate from Spain (“Second Section 129 Review”), from Stephen J. Claeys, Deputy Assistant Secretary for Import Administration, to David M. Spooner, Assistant Secretary for Import Administration, dated May 26, 2006. The First Section 129 Review was conducted pursuant to a WTO ruling that found the Department must modify its privatization methodology and apply that revised methodology to the First Sunset Review. The Department modified its methodology but determined it unnecessary to reach the privatization issue in the First Section 129 Review in view of its conclusion on recurring, non-allocable subsidies. The WTO, however, disagreed and directed the Department to conduct a second 129 proceeding to apply its modified privatization methodology.

In the Second Section 129 Review, the Department determined that the privatization of Aceralia did not extinguish the non-recurring, allocable subsidies provided to Aceralia prior to its privatization. The Department further determined that it had been provided substantial evidence that demonstrated the termination of programs under Royal Decree 878/81 that were originally found countervailable in the investigation. However, because countervailable programs continued to exist, the Department determined that revocation of the countervailing duty order would likely lead to continuation or recurrence of a countervailable subsidy.

Scope of the Order

The products covered by this countervailing duty order, include hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated, nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the Harmonized Tariff Schedule of the United States (“HTSUS”) under item numbers 7208.40.3030, 7208.40.3060, 7208.51.0030, 7208.51.0045, 7208.51.0060, 7208.52.0000, 7208.90.0000, 7210.70.3000, 7210.90.9000, 7211.13.0000, 7211.14.0030, 7211.14.0045, 7211.90.0000, 7212.40.1000, 7212.40.5000, and 7212.50.0000. Included within the scope are flat-rolled products of non-rectangular cross-section where such cross-section is achieved subsequent to the rolling process (i.e., products which have been “worked after rolling”); for example, products which have been beveled or rounded at the edges. Excluded is grade X-70 plate. These HTSUS item numbers are provided for convenience and customs purposes. The Department's written description remains dispositive.

Analysis of Comments Received

All issues raised in substantive responses by parties in this sunset review are addressed in the Issues and Decision Memorandum for Final Results of Expedited Five-year (“Sunset”) Review of the Countervailing Duty Order on Cut-to-Length Steel Plate from Spain (“Decision Memo”), from Stephen J. Claeys, Deputy Assistant Secretary for Import Administration, to David M. Spooner, Assistant Secretary for Import Administration, dated May 30, 2006, which is hereby adopted by this notice. The issues discussed in the Decision Memo include the likelihood of continuation or recurrence of a countervailable subsidy and the net countervailable subsidy rate likely to prevail if the order were revoked.

Parties can find a complete discussion of all issues raised in this sunset review and the corresponding recommendation in this public memorandum which is on file in B-099, the Central Records Unit, of the main Commerce building. In addition, a complete version of the Decision Memo can be accessed directly on the Department's Web page at http://ia.ita.doc.gov/frn. The paper copy and electronic version of the Decision Memo are identical in content.

Final Results of Review

The Department determines that revocation of the countervailing duty order on CTL Plate from Spain is likely to lead to continuation or recurrence of countervailable subsidies at the following countervailing duty rate:

Manufacturer/Exporter | Net Subsidy Margin (percent)
All Producers/Exporters from Spain | 33.68

This notice also serves as the only reminder to parties subject to administrative protective orders (APO) of their responsibility concerning the return or destruction of proprietary information disclosed under APO in accordance with section 351.303 of the Department's regulations. Timely notification of the return or destruction of APO materials or conversion to judicial protective order is hereby requested. Failure to comply with the regulations and terms of an APO is a violation which is subject to sanction.

We are issuing and publishing this determination and notice in accordance with sections 751(c), 752, and 777(i) of the Act.

Dated: May 30, 2006.
David M. Spooner,
Assistant Secretary for Import Administration.

[FR Doc. E6-8757 Filed 6-5-06; 8:45 am]

BILLING CODE 3510-DS-S